DEPARTMENT OF THE INTERIOR

Bureau of Indian Affairs

[222A2100DD/AAKC001030/A0A51010.999900]

Notice of Deadline for Submitting Completed Applications To Begin Participation in the Tribal Self-Governance Program in Fiscal Year 2023 or Calendar Year 2023

AGENCY: Office of Self-Governance, Interior.

ACTION: Notice of application deadline.

SUMMARY: In this notice, the Office of Self-Governance (OSG) establishes a March 1, 2022, deadline for Indian tribes/consortia to submit completed applications to begin participation in the tribal self-governance program in fiscal year 2023 or calendar year 2023.

DATES: Completed application packages must be received by the Director, Office of Self-Governance, by March 1, 2022.

ADDRESSES: Application packages for inclusion in the applicant pool should be sent to Sharee M. Freeman, Director, Office of Self-Governance, Department of the Interior, Mail Stop 3624-MIB, 1849 C Street NW, Washington, DC 20240.

FOR FURTHER INFORMATION CONTACT: Vickie Hanvey, Office of Self Governance, Telephone (918) 931-0745 or Dr. Kenneth D. Reinfeld, Office of Self-Governance, Telephone (202) 821-7107.

SUPPLEMENTARY INFORMATION: Under the Tribal Self-Governance Act of 1994 (Pub. L. 103-413), as amended by the “Practical Reforms and Other Goals to Reinforce the Effectiveness of Self-Governance and Self-Determination Act of 2019-2020” or the “PROGRESS for Indian Tribes Act”, Section 402(b)(1)(A), the Secretary, acting through the Director of the Office of Self-Governance, may select not more than 50 new Indian Tribes per year from those eligible tribes. The Act mandates that copies of the funding agreements be sent at least 90 days before the proposed effective date to each Tribe that is served by the Bureau of Indian Affairs' agency that is serving the Tribe that is a party to the funding agreement. Initial negotiations with a Tribe/consortium located in a region and/or agency which has not previously been involved with self-governance negotiations will take approximately 2 months from start to finish. Agreements for an October 1 to September 30 funding year need to be signed and submitted by July 1. Agreements for a January 1 to December 31 need to be signed and submitted by October 1.

Purpose of Notice

The regulations at 25 CFR 1000.10 to 1000.31 have been modified by Section 201 of the newly enacted “Practical Reforms and Other Goals To Reinforce the Effectiveness of Self-Governance and Self-Determination” (PROGRESS) Act as follows: Section 201. Definitions; reporting and audit requirements; application of programs.

To be eligible to participate in self-governance, an Indian Tribe shall:

(1) Successfully complete the planning phase described in subsection (d);

(2) request participation in self-governance by resolution or other official action by the Tribal governing body; and

(3) demonstrate for the 3 fiscal years preceding the date on which the Tribe requests participation, fiscal stability and financial management capability as evidenced by the Indian Tribe having no uncorrected significant and internal audit exceptions in the required annual audit of its self-determination or self-governance agreements with any Federal agency.

An Indian Tribe seeking to begin participation in self-governance shall complete the planning phase. The planning phase shall:

(A) Be conducted to the satisfaction of the Indian Tribe; and

(B) include:

(i) Legal and budgetary research; and

(ii) internal Tribal governing planning, training, and organizational preparation.

Applicants should be guided by the referenced requirements in preparing their applications to begin participation in the tribal self-governance program in fiscal year 2023 and calendar year 2023. Copies of these requirements may be obtained from the information contact person identified in this notice.

Tribes/consortia wishing to be considered for participation in the tribal self-governance program in fiscal year 2023 or calendar year 2023 must respond to this notice, except for those tribes/consortia which are one of the 137 tribal entities with signed self-governance agreements.

Information Collection

This information collection is authorized by OMB Control Number 1076-0143, Tribal Self-Governance Program, which expires June 30, 2022.

Bryan Newland,
Assistant Secretary—Indian Affairs.

[FR Doc. 2022-00387 Filed 1-11-22; 8:45 am]

BILLING CODE 4337-15-P